DEPARTMENT OF THE INTERIOR

Bureau of Land Management

[NM-080-1430-EU; Serial No. NMNM-104295]

Notice of Realty Action

SUMMARY: The following land has been found suitable for direct sale under Section 203 of the Federal Land Policy and Management Act of 1976 (90 Stat. 2750, 43 U.S.C. 1713), at no less than the appraised fair market value of $9,000.00. The land will not be offered for sale until at least 60 days after the date of this notice.

T. 23 S., R. 25 E., NMPM

Sec. 12: NE¼NE¼, containing 40 acres.

The land is hereby segregated from appropriation under the public land laws, including the mining laws. The segregative effect of the notice of realty action shall terminate upon issuance of patent or other document of conveyance to such lands, upon publication in the Federal Register of a termination of the segregation, or 270 days from the date of publication, whichever occurs first.

The land is being offered by direct sale to the City of Carlsbad for expansion/upgrade of their water facility. The subject lands are adjacent to the City's #6 water well. The subject lands are not required for any other Federal purpose and meet the disposal criteria of the regulations contained in 43 CFR 2710.03(a) and 43 CFR 2711.3-3(a)(2).

The patent, when issued, will contain certain reservations to the United States, including the mineral estate, and will be subject to prior existing rights. Detailed information is available for review at the Carlsbad Field Office, 620 E. Greene, Carlsbad, NM 88220.

For a period of 45 days from March 1, 2001, interested parties may submit comments to Bobbe Young, Lead Realty Specialist, at P.O. Box 1778, Carlsbad, NM 88220. Any adverse comments will be evaluated by the Field Manager, who may vacate or modify this realty action and issue a final determination. In absence of objections, this realty action will become the final determination of the Department of the Interior.

Dated: February 12, 2001.
Leslie A. Theiss,
Carlsbad Field Manager.

[FR Doc. 01-4970 Filed 2-28-01; 8:45 am]

BILLING CODE 4310-VA-U